DEPARTMENT OF AGRICULTURE

Natural Resources Conservation Service

[Docket ID: NRCS-2022-0007]

Information Collection Requests; Urban Agriculture and Innovative Production (UAIP) Grant Program; Composting and Food Waste Reduction (CFWR) Cooperative Agreements

AGENCY: Natural Resources Conservation Service (NRCS), United States Department of Agriculture (USDA).

ACTION: Notice; request for comments.

SUMMARY: In accordance with the Paperwork Reduction Act, the NRCS is requesting comments from all interested individuals and organizations on two information collection requests associated with the UAIP Grant Program and the CFWR Cooperative Agreements, respectively.

DATES: We will consider comments that we receive by July 19, 2022.

ADDRESSES: NRCS prefers that the comments are submitted electronically through the Federal eRulemaking Portal. You may submit comments, identified by Docket ID No. NRCS-2022-0007, using any of the following methods:

• Federal eRulemaking Portal: Go to http://www.regulations.gov and search for Docket ID NRCS-2022-0007. Follow the online instructions for submitting comments.

• Mail, Hand-Delivery, or Courier: Brian Guse, Room 4083-S NRCS, USDA, 1400 Independence Avenue SW, Stop 1600, Washington, DC 20250.

In your comments, specify the docket ID NRCS-2022-0007. All comments received, including those received by mail, will be posted without change and will be publicly available on http://www.regulations.gov.

FOR FURTHER INFORMATION CONTACT: Brian Guse; telephone: (202) 641-7249; email: urbanagriculture@usda.gov. Persons with disabilities who require alternative means for communication should contact the USDA's TARGET Center at (202) 720-2600 (voice only) or (844) 433-2774 (toll-free nationwide).

SUPPLEMENTARY INFORMATION: Title: Urban Agriculture and Innovative Production (UAIP).

OMB Control Number: 0578-0032.

Type of Request: Extension.

Abstract: The Agriculture Improvement Act of 2018 (2018 Farm Bill, Pub L. 115-334) authorized the Farm Production and Conservation (FPAC) mission area and NRCS to award competitive grants to local units of government, school districts, and tribal communities to support the development of urban agriculture and innovative production with the goal of improving access to local foods in areas where access to fresh, healthy food is limited or unavailable. In FY 2020 and FY 2021, the first 2 years of the program, NRCS granted 31 awards totaling just over $7.9 million. To improve the ability of communities nationwide to implement projects that improve access to local foods, the UAIP program is substantially increasing its public investment through additional funding and awards in FY 2022, leveraging additional funding provided by the American Rescue Plan of 2021 (Pub L. 117-2). The grant recipients (applicants) are required to sign the notice of award and provide documents such as the project summary, Negotiated Indirect Cost Rate Agreement (NICRA), de minimus rate agreement, and annual progress reports. We received Office of Management and Budget (OMB) clearance to electronically submit required forms through Grants.gov (SF-270, SF-424, and SF-425).

For the following estimated total annual burden on respondents, the formula used to calculate the total burden hour is the estimated average time per responses hours multiplied by the estimated total annual responses.

Estimate of annual burden: Public reporting burden for the collection of information is estimated to average 7.55 hours per response.

Respondents: Grant recipients.

Estimated number of respondents: 897.

Estimated number of responses per respondent: 1.

Estimated total annual number of responses: 897.

Estimated average time per response: 7.55 hours.

Estimated total annual burden hours: 6,773 hours.

Title: Composting and Food Waste Reduction (CFWR).

OMB Control Number: 0578-0033.

Type of Request: Extension.

Abstract: The 2018 Farm Bill authorized the FPAC mission area and NRCS to carry out pilot projects under which local and municipal governments enter into cooperative agreements to develop and test strategies for planning and implementing municipal composting plans and food waste reduction plans. In FY 2020 and FY 2021, the first 2 years of the program, NRCS granted 37 awards totaling just over $3 million. To improve the ability of communities nationwide to implement projects that increase compost, improve soil quality, and reduce food waste, the CFWR program is substantially increasing its public investment by funding awards during FY 2022, leveraging additional funding provided by the American Rescue Plan of 2021 (Pub L. 117-2). Although no new information is being collected beyond prior-year requests, NRCS anticipates an additional public burden due to an increase in applications received and awards made. The grant recipients are required to sign the notice of award and provide documents such as the project summary, NICRA, de minimus rate agreement, and annual progress reports. We received OMB clearance to electronically submit required forms through Grants.gov (SF-270, SF-424 and SF-425).

For the following estimated total annual burden on respondents, the formula used to calculate the total burden in hours is the average of the estimated time per response multiplied by the estimated total annual responses required.

Estimate of annual burden: Public reporting burden for the collection of information is estimated to average 7.39 hours per response.

Respondents: Grant recipients.

Estimated number of respondents: 724.

Estimated number of responses per respondent: 1.

Estimated total annual number of responses: 724.

Estimated average time per response: 7.39 hours.

Estimated total annual burden hours: 5,353 hours.

We are requesting comments on all aspects of the information collections to help us:

(1) Evaluate whether the proposed collection of information is necessary for the agency to function properly, including whether the information will be useful for practical applications;

(2) Evaluate the accuracy of the agency's estimated burden for the collection of information, including the validity of the methodology used and assumptions made;

(3) Evaluate the quality, utility, and clarity of the information technology; and

(4) Minimize the burden of the information collection on those who respond using appropriate automated, electronic, mechanical, or other technological collection techniques or forms of information technology.

All comments received in response to this notice, including names and addresses provided, will be made a matter of public record. Comments will be summarized and included in the request for OMB approval of the information collection.

Louis Aspey,
Associate Chief, Natural Resources Conservation Service.

[FR Doc. 2022-10914 Filed 5-19-22; 8:45 am]

BILLING CODE 3410-05-P